SMALL BUSINESS ADMINISTRATION

[Declaration of Disaster #3345; Amendment #8]

State of West Virginia

In accordance with notices received from the Federal Emergency Management Agency, dated September 4 and September 5, 2001, the above numbered declaration is hereby amended to establish the incident period for this disaster as occurring May 15, 2001 and continuing through September 4, 2001. The above numbered declaration is also amended to extend the deadline for filing applications for physical damages as a result of this disaster to October 10, 2001.

All other information remains the same, i.e., the deadline for filing applications for loans for economic injury is March 4, 2002.

(Catalog of Federal Domestic Assistance Program Nos. 59002 and 59008)
Dated: September 6, 2001.
Herbert L. Mitchell,
Associate Administrator for Disaster Assistance.

[FR Doc. 01-22965 Filed 9-12-01; 8:45 am]

BILLING CODE 8025-01-P